DEPARTMENT OF HEALTH AND HUMAN SERVICES

Public Health Service

National Toxicology Program; Announcement of Availability of Background Documents for Substances Nominated for Listing in the Report on Carcinogens, Eleventh Edition

Availability of Background Documents

The National Toxicology Program (NTP) announces the availability of the background documents for four nominations under consideration for listing in the Report on Carcinogens (RoC), Eleventh Edition (“the Eleventh RoC”). The background documents are available for the nominations: Cobalt Sulfate, Diethanolamine, Nitromethane, and 4,4'-Thiodianiline. They can be obtained electronically on the NTP Web site: http://ntp-server.niehs.nih.gov (select Report on Carcinogens) or in hardcopy by contacting Dr. C. W. Jameson at the following address: National Toxicology Program, Report on Carcinogens, 79 Alexander Drive, Building 4401, Room 3118, P.O. Box 12233, Research Triangle Park, NC 27709; phone: (919) 541-4096, fax: (919) 541-0144, e-mail: jameson@niehs.nih.gov.

The background documents for these four nominations are the first to be released for nominations under consideration for the Eleventh RoC. These documents are being made available at this time in response to the October, 1999 public meeting that discussed the preparation and review of the Report on Carcinogens where concerns were expressed regarding the need to increase the time allotted for public review and comment on the RoC background documents. The NTP will make all future RoC background documents available as soon as they are completed. All future notifications about the availability of background documents for other nominations under consideration for the Eleventh RoC will be provided through NTP list-server announcements. Individuals or groups can subscribe to the NTP list-server in several ways: (1) By registering online at http://ntp-server.niehs.nih.gov, (2) by sending an e-mail to ntpmail-request@list.niehs.nih.gov with the word “subscribe” as the body of the message, or (3) by contacting the NTP Office of Liaison and Scientific Review (919-541-0530 or liaison@starbase.niehs.nih.gov). Individuals or groups who have already subscribed to the NTP list-server do not need to subscribe again.

The NTP has identified the nominations under consideration for listing in the Eleventh RoC in previous Federal Register notices (Federal Register: July 24, 2001 (Vol. 66, No. 142) pages 38430-38432 and Federal Register: March 28, 2002 (Vol. 67, No. 60) page 14957). The NTP follows a formal process for the review of nominations that includes multiple phases of scientific peer review and several opportunities for public comments. Additional information about the review of nominations for the Eleventh RoC, including the date and location of the public meeting of the NTP Board of Scientific Counselors RoC Subcommittee and the deadline for submission of public comments for consideration at that review, will be announced through future Federal Register and NTP list-server notices.

Background Information about the RoC

The RoC is an informational, scientific, and public health document that identifies and discusses agents, substances, mixtures, and exposure circumstances that may pose a carcinogenic hazard to human health. The report is prepared biennially in response to section 301 of the Public Health Service Act, as amended. The NTP welcomes nominations for listing in or changing the current listing in the RoC at any time. Additional information about the nomination process, the criteria for listing a nomination in the RoC, and the formal multi-step review process for nominations is available on the NTP Web site (http://ntp-server.niehs.nih.gov, select Report on Carcinogens) or from Dr. Jameson at the address provided above.

Dated: May 9, 2002.
Samuel H. Wilson,
Deputy Director, National Toxicology Program.

[FR Doc. 02-13058 Filed 5-23-02; 8:45 am]

BILLING CODE 4140-01-P